DEPARTMENT OF AGRICULTURE

Animal and Plant Health Inspection Service

[Docket No. APHIS-2020-0119]

Notice of Request for Revision to and Extension of Approval of an Information Collection; Communicable Diseases in Horses

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for approving laboratories to test for equine infectious anemia and for the interstate movement of horses that have tested positive for equine infectious anemia.

DATES: We will consider all comments that we receive on or before April 13, 2021.

ADDRESSES: You may submit comments by either of the following methods:

• Federal eRulemaking Portal: Go to http://www.regulations.gov/#!docketDetail;D=APHIS-2020-0119.

• Postal Mail/Commercial Delivery: Send your comment to Docket No. APHIS-2020-0119, Regulatory Analysis and Development, PPD, APHIS, Station 3A-03.8, 4700 River Road, Unit 118, Riverdale, MD 20737-1238.

Supporting documents and any comments we receive on this docket may be viewed at http://www.regulations.gov/#!docketDetail;D=APHIS-2020-0119 or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for approved laboratories to test for equine infectious anemia or for the interstate movement of horses that have tested positive for equine infectious anemia, contact Dr. Rory Carolan, Aquaculture, Swine, Equine, and Poultry, Strategy and Policy, VS, APHIS, 4700 River Road, Unit 46, Riverdale, MD 20737; (301) 851-3558. For more information on the information collection process, contact Mr. Joseph Moxey, APHIS' Information Collection Coordinator, at (301) 851-2483.

SUPPLEMENTARY INFORMATION: Title: Communicable Diseases in Horses.

OMB Control Number: 0579-0127.

Type of Request: Revision to and extension of approval of an information collection.

Abstract: Under the authority of the Animal Health Protection Act (7 U.S.C. 8301 et seq.), the Animal and Plant Health Inspection Service (APHIS) of the U.S. Department of Agriculture regulates the importation and interstate movement of animals and animal products, and conducts various other activities to protect the health of U.S. livestock and poultry.

Equine infectious anemia (EIA) is an infectious and potentially fatal viral disease of equines. There is no vaccine or treatment for the disease. Regulations in 9 CFR part 71 provide for the approval of laboratories, diagnostic facilities, and research facilities, including those that test for EIA. The regulations in 9 CFR part 75 govern the interstate movement of equines that have tested positive to an official test for EIA (EIA reactors). Identifying EIA-positive animals through laboratory testing and ensuring the safe movement of those equines testing positive for EIA requires several information collection activities.

APHIS regulations require laboratories conducting an official EIA test to be approved by the APHIS Administrator, in consultation with the appropriate State animal health officials. Information collection activities associated with that approval process include a laboratory application and a director's agreement, collecting the name of the director, location, laboratory facilities, available resources, and the training and proficiency of employees. Additional information collection activities include written notification of withdrawal of approval and a request for hearing. This information helps APHIS determine a laboratory's capacity to conduct accurate and reliable testing and to meet the requirements in the regulations. To receive and maintain approval, a laboratory must report positive test results, provide monthly reports, and undergo regular inspections.

Additional information collection occurs on the EIA laboratory test form, on a permit for the interstate movement of an EIA reactor, and on a supplemental disease investigation form for animals testing positive for EIA.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.08 hours per response.

Respondents: Producers, veterinarians, State veterinarians, and approved EIA laboratory directors.

Estimated annual number of respondents: 235,018.

Estimated annual number of responses per respondent: 5.

Estimated annual number of responses: 1,157,148.

Estimated total annual burden on respondents: 93,030 hours. (Due to averaging, the total annual burden hours may not equal the product of the annual number of responses multiplied by the reporting burden per response.)

All responses to this notice will be summarized and included in the request for OMB approval. All comments will also become a matter of public record.

Done in Washington, DC, this this 8th day of February 2021.
Jack Shere,
Administrator, Animal and Plant Health Inspection Service.

[FR Doc. 2021-02903 Filed 2-11-21; 8:45 am]

BILLING CODE 3410-34-P